DEPARTMENT OF ENERGY

Federal Energy Regulatory Commission

[Project No. 2520-076]

Great Lakes Hydro America, LLC; Notice of Application Tendered for Filing With the Commission and Establishing Procedural Schedule for Licensing and Deadline for Submission of Final Amendments

Take notice that the following hydroelectric application has been filed with the Commission and is available for public inspection.

a. Type of Application: New Major License.

b. Project No.: 2520-076.

c. Date Filed: August 31, 2016.

d. Applicant: Great Lakes Hydro America, LLC (Great Lakes Hydro).

e. Name of Project: Mattaceunk Hydroelectric Project.

f. Location: The existing project is located on the Penobscot River in Aroostook and Penobscot Counties, Maine. The project does not affect federal lands.

g. Filed Pursuant to: Federal Power Act, 16 U.S.C. 791(a)-825(r).

h. Applicant Contact: Kevin Bernier, Senior Compliance Specialist, Great Lakes Hydro America, LLC, 1024 Central Street, Millinocket, Maine 04462; Telephone (207) 723-4341, x118.

i. FERC Contact: Adam Peer, (202) 502-8449 or adam.peer@ferc.gov.

j. This application is not ready for environmental analysis at this time.

k. The Project Description: The existing Mattaceunk Hydroelectric Project consists of: (1) A 1,060-foot-long, 45-foot-high dam (Weldon Dam) with a crest elevation of 236.0 feet (USGS datum), and includes (i) a 110-foot-long earthen embankment extending to the left abutment; (ii) a combined intake and powerhouse structure; (iii) an upstream fish ladder; (iv) a 10-foot-wide log sluice structure, controlled by an 8-foot-high vertical slide gate; (v) a 90-foot-long, 19-foot-high gated spillway with a single roller gate; (vi) a 657.5-foot-long, 70-foot high concrete gravity overflow spillway with 4-foot-high flashboards to create a maximum flashboard crest elevation of 240.0 feet; and (vii) a retaining wall at the right abutment; (2) a 1,664-acre reservoir with a total storage capacity of 20,981 acre-feet at a normal pool elevation of 240.00 feet (USGS datum); (3) a 142-foot-long, 99-foot-wide powerhouse (Weldon Station) integral to the dam containing two Kaplan turbines rated at 5,479 kilowatt (kW) and two fixed-blade propeller turbines rated at 5,489 kW, each driving a 6,000 kilovolt-ampere (kVA), 4,800 kW vertical synchronous generator for an authorized installed capacity of 19.2 megawatts (MW); (4) a downstream fishway; (5) an outdoor substation adjacent to the powerhouse; (6) a 9-mile-long, 34.5-kilovolt (kV) transmission line within a 120-foot-wide right of way; and (7) appurtenant facilities. The project generates about 123,332 megawatt-hours (MWh) annually.

The Mattaceunk Project is operated with minimal fluctuations of the reservoir surface elevation. Flexibility on reservoir elevations is required to provide for safe installation of the project's flashboards and to allow an adequate margin for wave action, debris loads, or sudden pool increases that might cause flashboard failure. The existing license requires a reservoir surface elevation no lower than 1.0 foot below the dam crest elevation of 236.0 feet when the 4-foot-high flashboards are not in use, and no lower than 2.0 feet below the top of flashboard elevation of 240.0 feet when the 4-foot-high flashboards are in use. The existing license also requires a year-round continuous minimum flow of 1,674 cubic feet per second (cfs) or inflow, whichever is less, and a daily average minimum flow of 2,392 cfs from July 1 through September 30 and 2,000 cfs from October 1 through June 30, unless inflow is less than the stated daily average minimum flows (in which case outflow from the project must equal the inflow to the project). Great Lakes Hydro proposes to: (1) Install a seasonal upstream eel ramp; (2) install an upstream passage structure for American shad, alewife, and blueback herring; (3) install trashracks having 1-inch clear spacing to the full depth of the turbine intakes during the fish passage season; and (4) improve the recreation facility at the downstream angler access area.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | October 2016.
Filing of recommendations, preliminary terms and conditions, and fishway prescriptions | December 2016.
Commission issues Draft Environmental Assessment (EA) | June 2017.
Comments on Draft EA | July 2017.
Modified terms and conditions | September 2017.
Commission issues Final EA | December 2017.

o. Final amendments to the application must be filed with the Commission no later than 30 days from the issuance date of the notice of ready for environmental analysis.

Dated: September 8, 2016.
Kimberly D. Bose,
Secretary.

[FR Doc. 2016-22266 Filed 9-15-16; 8:45 am]

BILLING CODE 6717-01-P